DEPARTMENT OF THE INTERIOR

Fish and Wildlife Service

Lake Ophelia National Wildlife Refuge

AGENCY: Fish and Wildlife Service, Interior.

AGENCY: Notice of availability of the Final Comprehensive Conservation Plan for Lake Ophelia National Wildlife Refuge in Avoyelles Parish, Louisiana.

SUMMARY: The Fish and Wildlife Service announces that a Final Comprehensive Conservation Plan for Lake Ophelia National Wildlife Refuge is available for distribution. The plan was prepared pursuant to the National Wildlife Refuge System Improvement Act of 1997, and in accordance with the National Environmental Policy Act of 1969, and describes how the refuge will be managed for the next 15 years. The compatibility determinations for hunting, fishing, wildlife observation and photography, environmental education and interpretation, all-terrain vehicle use, trapping of selected furbearers, cooperative farming, forest management, and resource research studies, are also available within the plan.

ADDRESSES: A copy of the plan may be obtained by writing to the Lake Ophelia National Wildlife Refuge, 401 Island Road, Marksville, Louisiana 71351. The plan may also be accessed and downloaded from the Service's Web site http://southeast.fwa.gov/planning/.

SUPPLEMENTARY INFORMATION: Lake Ophelia National Wildlife Refuge is located in north Avoyelles Parish, Louisiana, about 15 miles northeast of the city of Marksville and 30 miles southeast of the city of Alexandria. The refuge covers a total of 17,525 acres within the 38,000-acre acquisition boundary and lies approximately 8 miles northwest of where the Red River empties into the Atchafalaya River. This region is part of the Mississippi Alluvial Valley. The refuge consists of a complex of forested wetlands, shrub wetland habitats, recently reforested areas, agricultural lands, moist-soil areas, open waters, and dirt access roads and trails. Annually, more than 10,000 visitors participate in refuge activities.

The availability of the Draft Comprehensive Conservation Plan and Environmental Assessment for a 45-day public review and comment period was announced in the Federal Register on April 5, 2005, volume 70, number 64. The plan and environmental assessment identified and evaluated four alternatives for managing the refuge over the next 15 years. Alternative 1, the “no action” alternative, would have continued current management of the refuge and all lands within the approved 38,000-acre acquisition boundary would be purchased. Under Alternative 2, the “preferred alternative,” 38,000 acres of refuge lands would be protected, maintained, and enhanced by adding more staff, equipment, and facilities in order to restore and manage the refuge's forest, wetland, and moist-soil habitats, and hydrology in support of wildlife, especially waterfowl, neotropical migratory birds, and Louisiana black bears. Alternative 3 would add more staff, equipment, and facilities in order to maximize bottomland hardwood forest restoration in support of migratory birds and other wildlife. Under this alternative, 17,525 acres of refuge lands would be protected, maintained, restored, and enhanced for resident wildlife, waterfowl, neotropical migratory birds, and threatened and endangered species. Additionally, the acquisition boundary would be expanded (77,000 acres) to create forested linkages with the State of Louisiana's Spring Bayou and Grassy Lake wildlife management areas. Alternative 4 would add more staff, equipment, and facilities in order to restore the refuge's wetland hydrology in support of migratory birds, particularly waterfowl and shorebirds.

Based on the environmental assessment and the comments received, the Service adopted Alternative 2 as its preferred alternative. This alternative was considered to be the most effective for meeting the purposes of the refuge by conserving wetlands and reducing forest fragmentation by identifying lands of conservation priority and working with partners to contribute to the 100,000-acre forest block objective for the Red River/Three Rivers Source Population Objective Area. Alternative 2 best achieves national, ecosystem, and refuge-specific goals and objectives and positively addresses significant issues and concerns expressed by the public.

FOR FURTHER INFORMATION CONTACT: Tina Chouinard, Natural Resource Planner, Central Louisiana National Wildlife Refuge Complex, telephone: (318) 253-4238; fax: (318) 253-7139; e-mail: tina_chouinard@fws.gov; or by writing to the Natural Resource Planner at the address in the ADDRESSES section.

Authority: This notice is published under the authority of the National Wildlife Refuge System Improvement Act of 1997, Public Law 105-57.

Dated: July 18, 2005.
Cynthia K. Dohner,
Acting Regional Director.

[FR Doc. 05-21907 Filed 11-2-05; 8:45 am]

BILLING CODE 4310-55-M